DEPARTMENT OF TRANSPORTATION

Federal Motor Carrier Safety Administration

[FMCSA Docket No. FMCSA-2005-22056]

Public Meeting To Discuss the Implementation of the North American Standard for Cargo Securement

AGENCY: Federal Motor Carrier Safety Administration (FMCSA), DOT.

ACTION: Notice of public meeting.

SUMMARY: FMCSA announces the third in a series of public meetings concerning the implementation of the North American Standard for Protection Against Shifting or Falling Cargo. On September 27, 2002, FMCSA published a Final Rule revising its regulations concerning protection against shifting and falling cargo for commercial motor vehicles (CMVs) engaged in interstate commerce. The final rule is based on the North American Cargo Securement Standard Model Regulations, which reflect the results of a multi-year comprehensive research program to evaluate U.S. and Canadian cargo securement regulations. Motor carriers operating in the United States had until January 1, 2004, to comply with the new regulations. On September 23, 2004, Canada's Council of Ministers Responsible for Transportation and Highway Safety approved a new National Safety Code Standard for cargo securement. Full implementation of the new cargo securement requirements in Canada began in the summer of 2005. This meeting is the third in a series of meetings to discuss the process for ensuring the consistent interpretation and enforcement of the harmonized cargo securement standards by FMCSA and the Canadian Provinces. The meeting is being held in connection with the Commercial Vehicle Safety Alliance (CVSA)'s 2006 Annual Conference.

DATES: The meeting will be held on April 23-24, 2006. The meeting will begin at 8 a.m. and end at 5 p.m. on April 23, and continue from 1:30 p.m. until 5 p.m. on April 24.

ADDRESSES: The meeting will be held at the Marriott Hartford Downtown & Connecticut Convention Center, 200 Columbus Boulevard, Hartford, Connecticut.

FOR FURTHER INFORMATION CONTACT: Mr. Michael Huntley, Chief of the Vehicle and Roadside Operations Division (MC-PSV), Federal Motor Carrier Safety Administration, 400 Seventh Street, SW., Washington, DC 20590. Phone: 202-366-5370.

SUPPLEMENTARY INFORMATION:

Background

On September 27, 2002 (67 FR 61212), FMCSA published a final rule revising its regulations concerning protection against shifting and falling cargo for CMVs operated in interstate commerce (49 CFR part 393). The new cargo securement standards are based on the North American Cargo Securement Standard Model Regulations, which reflect the results of a multi-year comprehensive research program to evaluate U.S. and Canadian cargo securement regulations. The program included evaluations of the motor carrier industry's best practices, and recommendations presented during a series of public meetings involving U.S. and Canadian industry experts, Federal, State and Provincial enforcement officials, and other interested parties. The intent of the rulemaking was to reduce the number of crashes caused by cargo shifting on or within, or falling from, CMVs operating in interstate commerce, and to harmonize to the greatest extent practicable U.S., Canadian, and Mexican cargo securement regulations. Motor carriers had until January 1, 2004, to comply with the new regulations.

Maintaining Uniformity Between U.S. and Canadian Cargo Securement Standards

FMCSA believes it is necessary to continue working with U.S. and Canadian industry experts, Federal, State and Provincial enforcement officials, and other interested parties to maintain to the greatest extent practicable, harmonization of U.S. and Canadian cargo securement standards. A major part of this effort includes uniformity in interpreting the meaning of the requirements adopted by the U.S. and Canada. While there are some differences between certain provisions of the regulations adopted by FMCSA and Canada's National Safety Code Standard 10, most of the contents of the model regulations have been adopted, or will soon be adopted, by almost all jurisdictions in the U.S. and Canada. To ensure consistency in the interpretation and enforcement of the requirements, FMCSA is working with its partners in Canada to share information about requests for interpretation, and to exchange technical information that would be helpful to the regulatory agencies in developing responses to such requests. FMCSA is also working with its partners in Canada to ensure that interpretations are made available to all interested parties in an efficient and timely manner.

As part of the process for ensuring consistent interpretations of the harmonized cargo securement regulations, FMCSA is participating in this public meeting to provide all interested parties the opportunity to discuss interpretation and implementation issues with the Agency and its Canadian counterparts. This is the third in a series of public meetings on this subject. The first meeting was held April 21-22, 2005, in Albuquerque, New Mexico. The second meeting was held September 29-30, 2005, in Indianapolis, Indiana. Minutes from the Albuquerque and Indianapolis meetings, and the presentations made by participants have been placed in the public docket (Docket No. FMCSA-2005-22056). The minutes and presentations from the Hartford meeting and any future cargo securement implementation issues meetings will also be placed in this docket. Future public meetings will be announced in the Federal Register.

Meeting Information

The meeting will be held on April 23-24, 2006, at the Marriott Hartford Downtown & Connecticut Convention Center, 200 Columbus Boulevard, Hartford, Connecticut. The meeting is scheduled from 8 a.m. to 5 p.m. on April 23, and from 1:30 p.m. to 5 p.m. on April 24. The meeting is being held in connection with the Commercial Vehicle Safety Alliance (CVSA)'s 2006 Annual Conference. Attendance for the cargo securement meeting is free of charge and open to all interested parties. However, anyone interested in attending the sessions and committee meetings of the CVSA's 2006 Annual Conference must register with the CVSA and pay the appropriate registration fee. For further information about registration for other sessions or meetings of the CVSA's 2006 Annual Conference please contact the CVSA at (202) 775-1623.

Issued on: March 27, 2006.
Annette M. Sandberg,
Administrator.

[FR Doc. E6-4792 Filed 3-31-06; 8:45 am]

BILLING CODE 4910-EX-P